DEPARTMENT OF THE INTERIOR

National Park Service

[2253-665]

Notice of Inventory Completion: U.S. Department of Agriculture, Forest Service, Pacific Northwest Region, Gifford Pinchot National Forest, Vancouver, WA

AGENCY: National Park Service, Interior.

ACTION: Notice.

Notice is here given in accordance with the Native American Graves Protection and Repatriation Act (NAGPRA), 25 U.S.C. 3003, of the completion of an inventory of human remains and associated funerary objects in the possession and control of the U.S. Department of Agriculture, Forest Service, Pacific Northwest Region, Gifford Pinchot National Forest, Vancouver, WA. The human remains and associated funerary objects were removed from Klickitat County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by Pacific Northwest Region, Gifford Pinchot National Forest, professional staff in consultation with representatives of the Confederated Tribes of the Umatilla Indian Reservation, Oregon; Confederated Tribes of the Warm Springs Reservation of Oregon; and Confederated Tribes and Bands of the Yakama Nation, Washington.

In June 1983, human remains representing a minimum of three individuals were removed from archeological site 45KL281, Klickitat County, WA. The remains were recovered during initial documentation and subsurface sampling of the archeological site, prior to acquisition of the property by the Federal agency. The items came into possession of the Forest Service in 1989, following the land acquisition. The location is on National Forest System lands within the Columbia River Gorge National Scenic Area. No known individuals were identified. The 571 associated funerary objects are 5 shell beads, 182 copper artifacts, 380 glass beads, 1 pipe in fragments, 1 horse molar and 2 glass bottle or jar fragments.

The human remains are highly fragmented due to the effects of cremation, and most of the associated funerary objects also show the effects of fire. Trade materials among the associated funerary objects indicate interment and firing circa A.D. 1825-1850. Funerary objects reflect the ornamentation and dress of local Native American groups during the early historic period. Cultural geography, oral traditions and historic sources indicate probable use of the site area either by Wayámłáma families from the village of wanwáwi (Oregon) or Walawitsislama people from the village of wálawitis (Washington). The descendants of the Wayámłáma and Walawitsislama are members of the Confederated Tribes of the Warm Springs Reservation of Oregon and Confederated Tribes and Bands of the Yakama Nation, Washington. Elders have suggested that the remains may be associated with a disease epidemic, as cremation was not the normal or preferred method of treatment for the deceased.

Officials of the Gifford Pinchot National Forest have determined, pursuant to 25 U.S.C. 3001(9), that the human remains described above represent the physical remains of three individuals of Native American ancestry. Officials of the Gifford Pinchot National Forest also have determined, pursuant to 25 U.S.C. 3001(3)(A), that the 571 objects described above are reasonably believed to have been placed with or near individual human remains at the time of death or later as part of the death rite or ceremony. Lastly, officials of the Gifford Pinchot National Forest have determined, pursuant to 25 U.S.C. 3001(2), that there is a relationship of shared group identity that can be reasonably traced between the Native American human remains and associated funerary objects and the Confederated Tribes of the Warm Springs Reservation of Oregon and the Confederated Tribes and Bands of the Yakama Nation, Washington.

Representatives of any other Indian tribe that believes itself to be culturally affiliated with the human remains and associated funerary objects should contact Rick McClure, Heritage Program Manager, Gifford Pinchot National Forest, 2455 Highway 141, Trout Lake, WA 98650, telephone (509) 395-3399, before December 16, 2010. Repatriation of the human remains and associated funerary objects to the Confederated Tribes of the Warm Springs Reservation of Oregon and Confederated Tribes and Bands of the Yakama Nation, Washington, may proceed after that date if no additional claimants come forward.

Gifford Pinchot National Forest is responsible for notifying the Confederated Tribes of the Umatilla Indian Reservation, Oregon; Confederated Tribes of the Warm Springs Reservation of Oregon; and Confederated Tribes and Bands of the Yakama Nation, Washington, that this notice has been published.

Dated: November 5, 2010.
Sherry Hutt,
Manager, National NAGPRA Program.

[FR Doc. 2010-28744 Filed 11-15-10; 8:45 am]

BILLING CODE 4312-50-P